DEPARTMENT OF JUSTICE

Notice of Lodging Proposed Consent Decree

In accordance with the Departmental Policy, 28 CFR 50.7, notice is hereby given that a proposed Consent Decree in United States v. David Arp and Triple Diamond Enterprises, LLC, (M.D. Fla.; 2:08-cv-82-JES-DNF), DJ # 90-5-1-1-17895, was lodged with the United States District Court for the Middle District of Florida on January 31, 2008.

This proposed Consent Decree concerns a complaint filed by the United States against David Arp and Triple Diamond Enterprises, LLC, pursuant to 33 U.S.C. 403, 1311(a) and 1344, to obtain injunctive relief from and impose civil penalties against the Defendants for violating the Clean Water Act and the Rivers and Harbors Act by discharging pollutants without a permit into waters of the United States. The proposed Consent Decree resolves these allegations by requiring the Defendants to restore the impacted areas and/or perform mitigation and to pay a civil penalty.

The Department of Justice will accept written comments relating to this proposed Consent Decree for thirty (30) days from the date of publication of this Notice. Please address comments to Todd W. Gleason, P.O. Box 23986, Washington, DC 20026-3986 and refer to United States v. David Arp and Triple Diamond Enterprises, LLC, (M.D. Fla.), DJ # 90-5-1-1-17895.

The proposed Consent Decree may be examined at the Clerk's Office, United States District Court for the Middle District of Florida, Jacksonville Division, United States Courthouse, 300 North Hogan Street, Jacksonville, FL 32202, 904-549-1900. In addition, the proposed Consent Decree may be viewed at http://www.usdoj.gov/enrd/Consent_Decrees.html.

Stephen Samuels,
Assistant Chief, Environmental Defense Section, Environment & Natural Resources Division.

[FR Doc. 08-669 Filed 2-14-08; 8:45 am]

BILLING CODE 4410-15-M